THE NATIONAL FOUNDATION FOR THE ARTS AND THE HUMANITIES

Notice of Proposed Information Collection: Analysis of Trends in Institute of Museum and Library Services Grants to States

AGENCY: Institute of Museum and Library Services, National Foundation for the Arts and Humanities.

ACTION: Notice.

SUMMARY: The Institute of Museum and Library Service (IMLS) as part of its continuing effort to reduce paperwork and respondent burden, conducts a pre-clearance consultation program to provide the general public and federal agencies with an opportunity to comment on proposed and/or continuing collections of information in accordance with the Paperwork Reduction Act of 1995 (PRA95)[44 U.S.C. 3508(2)(A)]. This program helps to ensure that requested data can be provided in the desired format, reporting burden (time and financial resources) is minimized, collection instruments are clearly understood, and the impact of collection requirements on respondents can be properly assessed. Currently the Institute of Museum and Library Services is soliciting comments concerning the proposed study to assess the impact of access to computers and the Internet and to related services at public libraries on individuals, families, and communities.

DATES: Written comments must be submitted to the office listed in the ADDRESSES section below on or before February 19, 2008. IMLS is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated electronic, mechanical, or other technological collection techniques or other forms of information technology, e.g. permitting electronic submissions of responses.

ADDRESSES: Send comments to: Mamie Bittner, Director, Office of Policy, Planning, Research, and Communications, Institute of Museum and Library Services, 1800 M Street, NW., 9th floor, Washington, DC 20036, by telephone: 202-653-4630; fax: 202-653-4625; or by e-mail at mbittner@imls.gov.

SUPPLEMENTARY INFORMATION:

1. Background

The Institute of Museum and Library Services is authorized by the Museum and Library Services Act, Public law 108-81, and is the primary source of federal support for the nation's 122,000 libraries and 17,500 museums. The Institute's mission is to create strong libraries and museums that connect people to information and ideas. The Institute works at the national level and in coordination with state and local organizations to sustain heritage, culture, and knowledge; enhance learning and innovation; and support professional development.

II. Current Actions

The purpose of this study is to gather and analyze original data to:

(1) better understand achievements, uses, impacts, and remaining needs for its program of annual formula-based library Grants to States from approximately 2003-2007;

(2) relate services provided through Grants to States to all library services provided by the State Library Administrative Agencies in this period and understand the contribution of Grants to States to stimulating funding for library services;

(3) relate these services to library services and trends in general in this period; and

(4) better understand the function and impact of the program in the national context of library services.

Once completed, the results of the study will be issued as a report that will be made widely available to inform and benefit libraries, the library research field, and the public at large.

Agency: Institute of Museum and Library Services.

Title: Analysis of trends in Institute of Museum and Library Services Grants to States.

OMB Number: To be determined.

Agency Number: 3137.

Frequency: One time.

Affected Public: Libraries, State Library Administrative agencies.

Number of Respondents: To be determined.

Estimated Time per Respondent: To be determined.

Total Annualized Capital/Startup Costs: To be determined.

Total Costs: To be determined.

FOR FURTHER INFORMATION CONTACT: Mamie Bittner, Director, Office of Policy, Planning, Research, and Communications, Institute of Museum and Library Services, 1800 M Street, NW., 9th floor, Washington, DC 20036, by telephone: 202-653-4630; fax: 202-653-4625; or by e-mail at mbittner@imls.gov.

Dated: December 13, 2007.
Barbara G. Smith,
E-Projects Officer, Institute of Museum & Library Services.

[FR Doc. E7-24598 Filed 12-18-07; 8:45 am]

BILLING CODE 7036-01-P